DEPARTMENT OF ENERGY

Federal Energy Regulatory Commission

Combined Notice of Filings #1

Take notice that the Commission received the following electric corporate filings:

Docket Numbers: EC15-155-000.

Applicants: American Transmission Company LLC.

Description: Application of American Transmission Company LLC for Authority to Acquire Transmission Facilities Under Section 203 of the Federal Power Act.

Filed Date: 6/11/15.

Accession Number: 20150611-5199.

Comments Due: 5 p.m. ET 7/2/15.

Take notice that the Commission received the following electric rate filings:

Docket Numbers: ER15-1813-001.

Applicants: The Connecticut Light and Power Company.

Description: Tariff Amendment per 35.17(b): Amendment to Joint Market Based Tariff to be effective 5/30/2015.

Filed Date: 6/12/15.

Accession Number: 20150612-5095.

Comments Due: 5 p.m. ET 7/6/15.

Docket Numbers: ER15-1907-000.

Applicants: Joliet Battery Storage LLC.

Description: Initial rate filing per 35.12 Application for Market-Based Rate Authority to be effective 6/12/2015.

Filed Date: 6/11/15.

Accession Number: 20150611-5191.

Comments Due: 5 p.m. ET 7/2/15.

Docket Numbers: ER15-1908-000.

Applicants: West Chicago Battery Storage LLC.

Description: Initial rate filing per 35.12 Application for Market-Based Rate Authority to be effective 6/12/2015.

Filed Date: 6/11/15.

Accession Number: 20150611-5193.

Comments Due: 5 p.m. ET 7/2/15.

Docket Numbers: ER15-1909-000.

Applicants: Kingfisher Wind, LLC.

Description: Initial rate filing per 35.12 Kingfisher Wind Rate Schedule FERC No. 1 to be effective 6/30/2015.

Filed Date: 6/12/15.

Accession Number: 20150612-5000.

Comments Due: 5 p.m. ET 7/6/15.

Docket Numbers: ER15-1910-000.

Applicants: Southwest Power Pool, Inc.

Description: Section 205(d) rate filing per 35.13(a)(2)(iii): 2014 Southwestern Power Administration Amendatory Agreement Extension to be effective 5/31/2015.

Filed Date: 6/12/15.

Accession Number: 20150612-5081.

Comments Due: 5 p.m. ET 7/6/15.

Docket Numbers: ER15-1911-000.

Applicants: Niagara Mohawk Power Corporation, New York Independent System Operator, Inc.

Description: Compliance filing per 35: Compliance Revisions to Wholesale TSC Formula Rate of National Grid to be effective 7/1/2013.

Filed Date: 6/12/15.

Accession Number: 20150612-5109.

Comments Due: 5 p.m. ET 7/6/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 12, 2015.
Kimberly D. Bose,
Secretary.

[FR Doc. 2015-15101 Filed 6-18-15; 8:45 am]

BILLING CODE 6717-01-P